DEPARTMENT OF THE TREASURY

Public Meeting of the President's Advisory Panel on Federal Tax Reform

AGENCY: Department of the Treasury.

ACTION: Notice of meeting.

SUMMARY: This notice advises all interested persons of the location of the April 18, 2005, public meeting of the President's Advisory Panel on Federal Tax Reform. This meeting was previously announced in 70 FR 18067 (April 8, 2005).

DATES: The meeting will be held on Monday, April 18, 2005, in Adelphi, Maryland, and will begin at 12:30 p.m.

ADDRESSES: The meeting will be held at the Inn and Conference Center, University of Maryland University College, 3501 University Boulevard East, Adelphi, Maryland 20783. Seating will be available to the public on a first-come, first-served basis.

FOR FURTHER INFORMATION CONTACT: The Panel staff at (202) 927-2TAX (927-2829) (not a toll-free call) or e-mail info@taxreformpanel.gov (please do not send comments to this box). Additional information is available at http://www.taxreformpanel.gov.

Dated: April 13, 2005.
Mark S. Kaizen,
Designated Federal Officer.

[FR Doc. 05-7714 Filed 4-15-05; 8:45 am]

BILLING CODE 4810-25-P